SUSQUEHANNA RIVER BASIN COMMISSION

Public Hearing

AGENCY: Susquehanna River Basin Commission.

ACTION: Notice.

SUMMARY: The Susquehanna River Basin Commission will hold a public hearing on February 2, 2017, in Harrisburg, Pennsylvania. At this public hearing, the Commission will hear testimony on the projects listed in the Supplementary Information section of this notice. Such projects are intended to be scheduled for Commission action at its next business meeting, tentatively scheduled for March 9, 2017, which will be noticed separately. The public should take note that this public hearing will be the only opportunity to offer oral comment to the Commission for the listed projects. The deadline for the submission of written comments is February 13, 2017.

DATES: The public hearing will convene on February 2, 2017, at 2:30 p.m. The public hearing will end at 5:00 p.m. or at the conclusion of public testimony, whichever is sooner. The deadline for the submission of written comments is February 13, 2017.

ADDRESSES: The public hearing will be conducted at the Pennsylvania State Capitol, Room 8E-B, East Wing, Commonwealth Avenue, Harrisburg, Pa.

FOR FURTHER INFORMATION CONTACT: Jason Oyler, General Counsel, telephone: (717) 238-0423, ext. 1312; fax: (717) 238-2436.

Information concerning the applications for these projects is available at the SRBC Water Resource Portal at www.srbc.net/wrp. Additional supporting documents are available to inspect and copy in accordance with the Commission's Access to Records Policy at www.srbc.net/pubinfo/docs/2009-02_Access_to_Records_Policy_20140115.pdf.

SUPPLEMENTARY INFORMATION: The public hearing will cover the following projects:

Projects Scheduled for Action

1. Project Sponsor and Facility: Anadarko E&P Onshore LLC (West Branch Susquehanna River), Nippenose Township, Lycoming County, Pa. Application for renewal of surface water withdrawal of up to 0.720 mgd (peak day) (Docket No. 20130301).

2. Project Sponsor and Facility: Cabot Oil & Gas Corporation (Meshoppen Creek), Lemon Township, Wyoming County, Pa. Application for renewal of surface water withdrawal of up to 0.500 mgd (peak day) (Docket No. 20121202).

3. Project Sponsor and Facility: Crossgates Golf Course, Manor Township and Millersville Borough, Lancaster County, Pa. Application for renewal of consumptive water use of up to 0.300 mgd (peak day) (Docket No. 19910515).

4. Project Sponsor and Facility: Crossgates Golf Course (Conestoga River), Manor Township and Millersville Borough, Lancaster County, Pa. Application for renewal of surface water withdrawal of up to 0.300 mgd (peak day) (Docket No. 19910515).

5. Project Sponsor and Facility: DS Services of America, Inc., Clay Township, Lancaster County, Pa. Application for groundwater withdrawal of up to 0.028 mgd (30-day average) from existing Well 4.

6. Project Sponsor and Facility: DS Services of America, Inc., Clay Township, Lancaster County, Pa. Application for groundwater withdrawal of up to 0.042 mgd (30-day average) from existing Well 5.

7. Project Sponsor: King Valley Golf Club, Inc. Project Facility: King Valley Golf Course (Boiling Springs Run), Kimmel Township, Bedford County, Pa. Application for surface water withdrawal of up to 0.090 mgd (peak day).

8. Project Sponsor: King Valley Golf Club, Inc. Project Facility: King Valley Golf Course, Kimmel Township, Bedford County, Pa. Application for consumptive water use of up to 0.090 mgd (peak day).

9. Project Sponsor and Facility: Mount Joy Borough Authority, Mount Joy Borough, Lancaster County, Pa. Application for modification to request a reduction of the maximum instantaneous rate for Well 3 from the previously approved rate of 1,403 gpm to 778 gpm and to revise the passby to be consistent with current Commission policy (Docket No. 20070607). The previously approved withdrawal rate of 1.020 mgd (30-day average) will remain unchanged.

10. Project Sponsor: Pennsylvania Department of Environmental Protection—South-central Regional Office, City of Harrisburg, Dauphin County, Pa. Facility Location: Leacock Township, Lancaster County, Pa. Application for groundwater withdrawal of up to 0.173 mgd (30-day average) from Hollander Well.

11. Project Sponsor and Facility: Pennsylvania General Energy Company, L.L.C. (First Fork Sinnemahoning Creek), Wharton Township, Potter County, Pa. Application for renewal of surface water withdrawal of up to 0.231 mgd (peak day) (Docket No. 20121222).

12. Project Sponsor and Facility: Silver Springs Ranch, LLC, Monroe Township, Wyoming County, Pa. Application for consumptive water use of up to 0.087 mgd (peak day).

13. Project Sponsor and Facility: Silver Springs Ranch, LLC, Monroe Township, Wyoming County, Pa. Application for groundwater withdrawal of up to 0.087 mgd (30-day average) from Borehole 1 (BH-1).

14. Project Sponsor: SUEZ Water Pennsylvania Inc. Project Facility: Dallas Operation, Dallas Township, Luzerne County, Pa. Modification to remove pumping restriction for March and April for previously approved groundwater withdrawal (Docket No. 20050301).

15. Project Sponsor and Facility: SWEPI LP (Pine Creek), Pike Township, Potter County, Pa. Application for renewal of surface water withdrawal of up to 0.936 mgd (peak day) (Docket No. 20130313).

16. Project Sponsor: Talen Energy Corporation. Project Facility: Royal Manchester Golf Links, East Manchester Township, York County, Pa. Minor modification to add new sources (Wells PW-1 and PW-6) to existing consumptive use approval (Docket No. 20060604). The previously approved consumptive use quantity of 0.360 mgd (peak day) will remain unchanged.

17. Project Sponsor: Talen Energy Corporation. Project Facility: Royal Manchester Golf Links, East Manchester Township, York County, Pa. Application for groundwater withdrawal of up to 0.145 mgd (30-day average) from Well PW-1.

18. Project Sponsor: Talen Energy Corporation. Project Facility: Royal Manchester Golf Links, East Manchester Township, York County, Pa. Application for groundwater withdrawal of up to 0.298 mgd (30-day average) from Well PW-6.

19. Project Sponsor and Facility: Talisman Energy USA Inc. (Sugar Creek), West Burlington Township, Bradford County, Pa. Application for renewal of surface water withdrawal of up to 0.750 mgd (peak day) (Docket No. 20130310).

20. Project Sponsor and Facility: West Manchester Township Authority, West Manchester Township, York County, Pa. Application for reactivation of a previously approved groundwater withdrawal at a reduced rate of up to 0.216 mgd (30-day average) from Well 7.

21. Project Sponsor and Facility: York County Solid Waste and Refuse Authority, Manchester Township, York County, Pa. Application for renewal of consumptive water use of up to 0.999 mgd (peak day) and addition of collected stormwater as an approved source for consumptive use (Docket No. 19860902).

Opportunity To Appear and Comment

Interested parties may appear at the hearing to offer comments to the Commission on any project listed above. The presiding officer reserves the right to limit oral statements in the interest of time and to otherwise control the course of the hearing. Guidelines for the public hearing will be posted on the Commission's Web site, www.srbc.net, prior to the hearing for review. The presiding officer reserves the right to modify or supplement such guidelines at the hearing. Written comments on any project listed above may also be mailed to Mr. Jason Oyler, General Counsel, Susquehanna River Basin Commission, 4423 North Front Street, Harrisburg, Pa. 17110-1788, or submitted electronically through www.srbc.net/pubinfo/publicparticipation.htm. Comments mailed or electronically submitted must be received by the Commission on or before February 13, 2017, to be considered.

Authority: Pub. L. 91-575, 84 Stat. 1509 et seq., 18 CFR parts 806, 807, and 808.

Dated: December 29, 2016.
Stephanie L. Richardson,
Secretary to the Commission.

[FR Doc. 2016-31912 Filed 1-3-17; 8:45 am]

BILLING CODE 7040-01-P